DEPARTMENT OF HEALTH AND HUMAN SERVICES

National Institutes of Health

National Institute on Aging; Amended Notice of Meeting

Notice is hereby given of a change in the meeting of the Clinical Aging Review Committee, September 26, 2019, 12:00 p.m. to September 27, 2019, 12:00 p.m., Hyatt Regency Bethesda, One Bethesda Metro Center, 7400 Wisconsin Avenue, Bethesda, MD 20814 which was published in the Federal Register on July 31, 2019, 84 FR 37328.

The meeting notice is amended to change the time of the meeting from 12:00 p.m.-12:00 p.m. to 9:00 a.m.-1:00 p.m. The meeting is closed to the public.

Dated: September 27, 2019.
Miguelina Perez,
Program Analyst, Office of Federal Advisory Committee Policy.

[FR Doc. 2019-21490 Filed 10-2-19; 8:45 am]

BILLING CODE 4140-01-P